FEDERAL COMMUNICATIONS COMMISSION

[OMB 3060-XXXX, OMB 3060-0179, OMB 3060-0537 and OMB 3060-1185]

Information Collections Being Submitted for Review and Approval to the Office of Management and Budget

AGENCY: Federal Communications Commission.

ACTION: Notice and request for comments.

SUMMARY: As part of its continuing effort to reduce paperwork burdens, and as required by the Paperwork Reduction Act (PRA) of 1995, the Federal Communication Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written comments should be submitted on or before May 20, 2019. If you anticipate that you will be submitting comments, but find it difficult to do so within the period of time allowed by this notice, you should advise the contacts below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the SUPPLEMENTARY INFORMATION section below.

FOR FURTHER INFORMATION CONTACT: For additional information or copies of the information collection, contact Cathy Williams at (202) 418-2918. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-0179.

Title: Section 73.1590, Equipment Performance Measurements.

Form Number: N/A.

Type of Review: Extension of a currently approved collection.

Respondents: Business or other for-profit entities; not-for-profit institutions.

Number of Respondents and Responses: 13,049 respondents and 13,049 responses.

Estimated Time per Response: 0.5-18 hours.

Frequency of Response: Recordkeeping requirement.

Total Annual Burden: 12,335 hours.

Total Annual Cost: None.

Obligation to Respond: Required to obtain or retain benefits. The statutory authority for this collection is contained in Section 154(i) of the Communications Act of 1934, as amended.

Nature and Extent of Confidentiality: There is no need for confidentiality with this collection of information.

Privacy Impact Assessment: No impact(s).

Needs and Uses: The information collection requirements contained in 47 CFR 73.1590(d) require licensees of AM, FM and TV stations to make audio and video equipment performance measurements for each main transmitter. These measurements and a description of the equipment and procedures used in making the measurements must be kept on file at the transmitter or remote control point for two years. In addition, this information must be made available to the FCC upon request.

OMB Control Number: 3060-0537.

Title: Sections 13.9(c), 13.13(c), 13.17(b), 13.211(e) and 13.217, Commercial Operator License Examination Managers (COLEM) Records.

Form Number: N/A.

Type of Review: Extension of a currently approved collection.

Respondents: Business or other for-profit entities.

Number of Respondents: 659 respondents; 659 responses.

Estimated Time per Response: .44 hours to 30 hours.

Frequency of Response: Recordkeeping requirement and on occasion reporting requirement.

Obligation to Respond: Required to obtain or retain benefits. Statutory authority for this information collection is contained in 47 U.S.C. 154 and 303 of the Communications Act of 1934.

Total Annual Burden: 14,796 hours.

Total Annual Cost: No cost.

Privacy Impact Assessment: No impact(s).

Nature and Extent of Confidentiality: There is no need for confidentiality with this collection of information.

Needs and Uses: The Commission will submit this expiring information *3168 collection after this comment period to obtain the full, three year clearance from the Office of Management and Budget (OMB). The Commission is requesting approval for a three year extension. The rule sections approved under this collections are 47 CFR 13.9, 13.13, 13.17 13.211 and 13.217. If the information collection requirements were not kept or fulfilled it is conceivable that examinees could be overcharged and that fraud and deceit could be used for unjust enrichment of the examiners.

OMB Control Number: 3060-1185.

Title: Annual Report for Mobility Fund Phase I Support, FCC Form 690 and Record Retention Requirements.

Form Number: FCC Form 690.

Type of Review: Extension of a currently approved collection.

Respondents: Business or other for-profit entities, not-for-profit institutions, and state, local or tribal governments.

Number of Respondents and Responses: 34 respondents and 880 responses.

Time per Response: 1-18 hours.

Frequency of Response: Annual and on occasion reporting requirement; recordkeeping requirement.

Obligation to Respond: Required to obtain or retain benefits. Statutory authority for this information collection 47 U.S.C. 154, 254 and 303(r) of the Communications Act of 1934, as amended.

Estimated Total Annual Burden: 15,874 hours.

Total Annual Costs: No cost.

Nature and Extent of Confidentiality: There is no need for confidentiality. The information collected on FCC Form 690 will be made available for public inspection. To the extent that an applicant seeks to have information collected on FCC Form 690 withheld from public inspection, the applicant may request confidential treatment pursuant to 47 CFR 0.459.

Privacy Act Impact Assessment: No impact(s).

Needs and Uses: A request for extension of this information collection (no change in requirements) will be submitted to the Office of Management and Budget (OMB) after this 60-day comment period in order to obtain the full three year clearance from OMB. The Commission uses the information contained in this collection to ensure that each winning bidder is meeting its obligations for receiving Mobility Fund Phase I (MF-I) support. In its November 2011 USF/ICC Transformation Order (FCC 11-161), the Commission comprehensively reformed and modernized the high-cost program within the universal service fund and, among other things, established the Mobility Fund. The Commission adopted rules in the USF/ICC Transformation Order for MF-I, which provided up to $300 million in one-time universal service support payments to immediately accelerate deployment of mobile broadband services in unserved areas, including annual reporting and record retention requirements for MF-I support recipients. The Commission also established a separate and complementary one-time Tribal Mobility Fund Phase I (TMF-I) to award up to $50 million in additional universal service funding to Tribal Areas, including Alaska, to accelerate mobile broadband availability in these remote and underserved areas. In its May 2012 Third Order on Reconsideration (FCC 12-52), the Commission revised certain rules adopted in the USF/ICC Transformation Order, including the deadline by which MF-I and TMF-I support recipients must file their annual reports pursuant to 47 CFR 54.1009(a). The information being collected under this information collection will be used by the Commission to ensure that each MF-I support recipient is meeting the public interest obligations associated with receiving such support.

OMB Control Number: 3060-XXXX.

Title: Incumbent 39 GHz Licensee Short-Form Application.

Form Number: FCC Form 175-A.

Type of Review: New information collection.

Respondents: Business or other for-profit entities, not-for-profit institutions, and state, local or tribal governments.

Estimated Number of Respondents and Responses: 16 respondents and 16 responses.

Estimated Time per Response: 30 minutes.

Frequency of Response: One-time reporting requirement.

Obligation to Respond: Required to obtain or retain benefits. Statutory authority for the currently approved information collection is contained in sections 154, 254, and 303(r) of the Communications Act, as amended, 47 U.S.C. 4, 254, 303(r).

Estimated Total Annual Burden: 8 hours.

Total Annual Costs: None.

Nature and Extent of Confidentiality: Information collected pursuant this information collection will be made available for public inspection, and the Commission is not requesting that respondents submit confidential information in response to this information collection. To the extent a respondent seeks to have information collected pursuant to this information collection withheld from public inspection, the respondent may request confidential treatment of such information pursuant to section 0.459 of the Commission's rules, 47 CFR 0.459.

Privacy Act Impact Assessment: No impact(s).

Needs and Uses: A request for approval of this new information collection will be submitted is being submitted to the Office of Management and Budget (OMB) to obtain the full three-year clearance from OMB.

In its 2016 Spectrum Frontiers Report and Order (FCC 16-89), the Commission adopted Upper Microwave Flexible Use Service (UMFUS) rules for the 28 GHz, Upper 37 GHz, and 39 GHz bands to make available millimeter wave spectrum for 5G. In its 2017 Spectrum Frontiers Second Report and Order (FCC 17-152), the Commission expanded the UMFUS rules to cover the 24 GHz and 47 GHz bands. In its December 2018 Fourth Report and Order (FCC 18-180), the Commission established an incentive auction that promotes the flexible-use wireless service rules that the Commission has adopted for the Upper 37 GHz, 39 GHz, and 47 GHz bands and, among other things, adopted modified band plans for these bands.

There are currently a number of existing licenses in the 39 GHz band that do not fit geographically into the Commission's new 39 GHz band plan, resulting in “encumbered” licenses in this band. The Commission will use the incentive auction process to resolve the difficulties presented by these encumbrances and the need for existing 39 GHz licenses to be transitioned efficiently to the new band plan and possibly to new service areas. Pursuant to the reconfiguration process adopted in the Fourth Report and Order, prior to the incentive auction, the Commission will offer each incumbent 39 GHz licensee a reconfiguration of its existing 39 GHz licenses that conforms more closely with the Commission's new band plan and service areas. Each incumbent can then choose to commit to (1) have its existing 39 GHz licenses modified based on the Commission's reconfiguration proposal; or (2) have its licenses modified based on an alternative reconfiguration proposed by the incumbent (provided it satisfies certain specified conditions); or (3) relinquish its existing spectrum usage rights in exchange for an incentive payment. An incumbent 39 GHz licensee will submit contact and related information and certifications on FCC Form 175-A which will be used by the Commission to enable the incumbent licensee to make its commitment to either accept modification of its 39 GHz spectrum holdings (either as proposed by the Commission or an acceptable alternate) or to relinquish its existing spectrum usage rights in exchange for an incentive payment.

Federal Communications Commission.
Cecilia Sigmund,
Federal Register Liaison.

[FR Doc. 2019-07759 Filed 4-17-19; 8:45 am]

BILLING CODE 6712-01-P